DEPARTMENT OF TRANSPORTATION

Pipeline and Hazardous Materials Safety Administration

Notice of Applications for Modification of Special Permits

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before June 6, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on May 10, 2013.
Donald Burger,
Chief, General Approvals and Permits.

Modification Special Permits
Application No. | Docket No. | Applicant | Regulation(s) affected | Nature of special permit thereof
6263-M |  | Amtrol, Inc., West Warwick, RI | 49 CFR 173.302(a)(1) | To modify the special permit to authorize a decrease in hydrostatic testing to 1.3 times MAWP and pneumatic testing to 1.1 times MAWP.
8228-M |  | U.S. Department of Justice, Bureau of Alcohol, Tobacco, Firearms and Explosives (ATF), Washington, DC | 49 CFR 172.101(c), 172.203(k), 172.102, and 173.56(b) | To modify the special permit to authorize an alternative packaging.
8843-M |  | Diamondback Industries, Inc., Crowley, TX | 49 CFR 173.228, 174.3, 175.3, 176.3, and 177.801 | To modify the special permit to authorize an inside diameter of 1-½ inches maximum for 4131 seamless steel tubing cylinder.
10704-M |  | Air Liquide America Speciality Gases LLC, Plumsteadville, PA | 49 CFR 173.302(a)(1), Part 172 Subpart C, E and F, Part 174, and Part 177 | To modify the special permit to authorize a lower minimum burst pressure and pressure rating.
11592-M |  | Amtrol Inc., West Warwick, RI | 49 CFR 173.306(g) | To modify the special permit to allow tanks 11 inches and under in diameter to be allowed to have a precharge of 70 psig and a wall stress of 38,000 psig.
11667-M |  | Weldship Corporation, Bethlehem, PA | 49 CFR 173.34(e), and 173.302(c)(2), (3), (4) | To modify the special permit and to authorize neck thread requirements that are consistant with CGA Pamphlet C-23.
12122-M |  | ARC Automotive, Inc., Knoxville, TN | 49 CFR 173.301(h), 173.302, 173.306(d)(3) | To modify the and special permit to authorize new opening and attachment requirements.
12184-M |  | Weldship Corporation, Bethlehem, PA | 49 CFR 173.34(e)(1), 173.302(c)(2)(3)(4), 173.34(e)(3), 173.34(e)(4), and 173.34(e)(6) | To modify the special permit to authorize neck thread requirements that are consistant with CGA Pamphlet C-23.
13424-M |  | Taminco, Inc., Allentown, PA | 49 CFR 177.834(i)(3), 172.203(a), and 172.302(c) | To modify the special permit to remove the requirement that the video camera must be capable of panning.
14770-M |  | Nova Chemicals Corporation, Moon Township, PA | 49 CFR 173.242 | To modify the special permit to authorize a Division 4.2 material.
14784-M |  | Weldship Corporation, Bethlehem, PA | 49 CFR 180.209(a) and (b) | To modify the special permit to authorize neck thread requirements that are consistant with CGA Pamphlet C-23.
14839-M |  | Matheson Tri-Gas, Inc., New Castle, PA | 49 CFR 180.209 | To modify the special permit to authorize new flat bottom hole dimensions when conducting ultrasonic examination for the purpose of cylinder requalification.
14856-M |  | BKC Industries, Inc., Creedmoor, NC | 49 CFR 180.209(a) and (b) | To modify the special permit to authorize neck thread requirements that are consistant with CGA Pamphlet C-23.
14920-M |  | Nordco Rail Services & Inspection Technologies, Ridgefield, CT | 49 CFR 173.302a, 180.205, and 180.209 | To modify the special permit to authorize 3A, 3AL, and DOT-SP 12440 cylinders to be retested by a 100% ultrasonic examination, marking requirements equal to or less than 5 inches, different dimensions of a flat bottom hole to be used during ultrasonic examinations, and add an acceptable level of tolerance to the maximum achieved reference amplitude.
15558-M |  | 3M Company, St. Paul, MN | 49 CFR 173.212, 172.302(a)(c) | To modify the special permit to authorize alternative packaging with a maximum capacity of 400 gallons.

[FR Doc. 2013-12007 Filed 5-21-13; 8:45 am]

BILLING CODE 4909-60-M